DEPARTMENT OF COMMERCE

International Trade Administration

[A-351-825]

Stainless Steel Bar From Brazil: Final Results of Antidumping Duty Administrative Review

AGENCY: Import Administration, International Trade Administration, Department of Commerce.

SUMMARY: On March 9, 2009, the Department of Commerce (the Department) published the preliminary results of the administrative review of the antidumping duty order on certain stainless steel bar from Brazil. The period of review (POR) is February 1, 2007, through January 31, 2008. We gave interested parties an opportunity to comment on the preliminary results. Based on our analysis of the comments received and an examination of our calculations, we have made changes for the final results. The final weighted-average dumping margin is listed below in the “Final Results of the Review” section of this notice.

EFFECTIVE DATE: July 14, 2009.

FOR FURTHER INFORMATION CONTACT: Catherine Cartsos or Minoo Hatten, AD/CVD Operations, Office 5, Import Administration, International Trade Administration, U.S. Department of Commerce, 14th Street and Constitution Avenue, NW, Washington, DC 20230, telephone: (202) 482-5287 or (202) 482-1690, respectively.

SUPPLEMENTARY INFORMATION:

Background

On March 9, 2009, the Department published Stainless Steel Bar From Brazil: Preliminary Results of Antidumping Duty Administrative Review, 74 FR 10022 (March 9, 2009), in the Federal Register (Preliminary Results). The administrative review covers one producer/exporter of the subject merchandise, Villares Metals S.A. (VMSA).

We invited parties to comment on the Preliminary Results. On April 20, 2009, we received a case brief from the petitioners (Carpenter Technology Corporation, Valbruna Slater Stainless, Inc., Electralloy Corporation, a Division of G.O. Carlson, Inc., and Universal Stainless). On April 27, 2009, we received a rebuttal brief from the respondent, VMSA. We did not receive a request for a hearing.

The Department is conducting this administrative review in accordance with section 751 of the Tariff Act of 1930, as amended (the Act).

Scope of the Order

The scope of the order covers stainless steel bar (SSB). The term SSB with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process. Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections. The SSB subject to the order is currently classifiable under subheadings 7222.10.0005, 7222.10.0050, 7222.20.0005, 7222.20.0045, 7222.20.0075, and 7222.30.0000 of the Harmonized Tariff Schedule of the United States (HTSUS). Although the HTSUS subheadings are provided for convenience and customs purposes, the written description of the scope of the order is dispositive.

Verification

As provided in section 782(i) of the Act, we verified sales information VMSA provided (see Preliminary Results). Since the publication of the Preliminary Results, we have verified cost information provided by VMSA using standard verification procedures, including on-site inspection of the manufacturer's facility, the examination of relevant cost and financial records, and the selection of original documentation containing relevant information. Our verification results are outlined in the public version of the verification report, dated April 7, 2009, which is on file in the Central Records Unit, room 1117 of the main Commerce building.

Analysis of Comments Received

The issues raised in the case and rebuttal briefs are addressed in the “Issues and Decision Memorandum” (Decision Memorandum) from John M. Andersen, Acting Deputy Assistant Secretary, to Ronald K. Lorentzen, Acting Assistant Secretary, dated July 7, 2009, which is hereby adopted by this notice. A list of the issues which parties have raised and to which we have responded is in the Decision Memorandum and attached to this notice as an Appendix. The Decision Memorandum, which is a public document, is on file in the Central Records Unit, main Department building, Room 1117, and accessible on the Web at http://ia.ita.doc.gov/frn/index. html. The paper copy and electronic version of the Decision Memorandum are identical in content.

Changes Since the Preliminary Results

Based on our findings at the cost verification and analysis of the comments received, we have recalculated VMSA's cost of manufacture of the rolled products to include the additional depreciation expense on the new rolling mill for May through October 2007. Consistent with the Preliminary Results, we have calculated VMSA's financial-expense ratio using the consolidated audited financial statements of the highest consolidated entity, Voelstalpine A.G., for fiscal year 2008. We have recalculated the cost-of-sales denominator used in the financial-expense ratio to exclude the distribution-center operations costs and, thus, have revised the financial-expense ratio for the final results accordingly. We have also recalculated the ratio for VMSA's general and administrative (G&A) expenses to exclude the revenue recognized from the reversal of contingencies which VMSA had claimed as an offset to G&A expense. See Final Cost Calculation Memorandum from Laurens Van Hauten to Neal Halper, dated, July 7, 2009, and Final Analysis Memorandum, dated July 7, 2009, for detailed information on these changes.

Final Results of Review

As a result of our review, we determine that the weighted-average dumping margin for VMSA is 4.96 percent for the period February 1, 2007, through January 31, 2008.

Assessment Rates

The Department shall determine, and U.S. Customs and Border Protection (CBP) shall assess, antidumping duties on all appropriate entries. In accordance with 19 CFR 351.212(b)(1), we have calculated importer/customer-specific assessment rates for these final results of review. We divided the total dumping margins for the reviewed sales by the total entered value of those reviewed sales for each reported importer or customer. We will instruct CBP to assess the importer/customer-specific rate uniformly, as appropriate, on all entries of subject merchandise made by the relevant importer or customer during the POR. See 19 CFR 351.212(b).

The Department clarified its “automatic assessment” regulation on May 6, 2003. See Antidumping and Countervailing Duty Proceedings: Assessment of Antidumping Duties, 68 FR 23954 (May 6, 2003) (Assessment of Antidumping Duties). This clarification will apply to entries of subject merchandise during the POR produced by VMSA for which VMSA did not know its merchandise was destined for the United States. In such instances, we will instruct CBP to liquidate unreviewed entries of VMSA-produced merchandise at the all-others rate if there is no rate for the intermediate company(ies) involved in the transaction. For a full discussion of this clarification, see Assessment of Antidumping Duties.

The Department intends to issue liquidation instructions to CBP 15 days after the publication of these final results of review.

Cash-Deposit Requirements

The following deposit requirements will be effective upon publication of this notice of final results of administrative review for all shipments of SSB from Brazil entered, or withdrawn from warehouse, for consumption on or after the date of publication, as provided by section 751(a)(2)(C) of the Act: (1) the cash-deposit rate for VMSA will be 4.96 percent; (2) for previously reviewed or investigated companies not listed above, the cash-deposit rate will continue to be the company-specific rate published for the most recent period; (3) if the exporter is not a firm covered in this review, a prior review, or the less-than-fair-value investigation but the manufacturer is, the cash-deposit rate will be the rate established for the most recent period for the manufacturer of the merchandise; (4) if neither the exporter nor the manufacturer has its own rate, the cash-deposit rate will be the all-others rate for this proceeding, 19.43 percent, as established in the investigation. See Notice of Final Determination of Sales at Less Than Fair Value: Stainless Steel Bar From Brazil, 59 FR 66914 (December 28, 1994). These deposit requirements shall remain in effect until further notice.

Notification to Parties

This notice also serves as a reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

These final results of administrative review are issued and published in accordance with sections 751(a)(1) and 777(i)(1) of the Act.

Dated: July 7, 2009.
Ronald K. Lorentzen,
Acting Assistant Secretary for Import Administration.

Appendix

List of Issues Addressed in the Issues and Decision Memorandum

Comment 1 - Level of Trade

Comment 2 - Depreciation Expenses of Expenses on New Rolling Mill

Comment 3 - Income Offsets to General and Administrative Expenses

Comment 4 - Financial-Expense Ratio

[FR Doc. E9-16655 Filed 7-13-09; 8:45 am]

BILLING CODE 3510-DS-S